SMALL BUSINESS ADMINISTRATION

National Small Business Development Centers Advisory Board; Meeting

AGENCY: Small Business Administration.

ACTION: Notice of open Federal Advisory Committee meeting.

SUMMARY: The SBA is issuing this notice to announce the location, date, time and agenda for the May 2018 meeting of the Federal Advisory Committee for the Small Business Development Centers Program. The meeting will be open to the public; however, advance notice of attendance is required.

DATES: Tuesday, May 15, 2018 1:00 p.m. EST—Teleconference.

ADDRESSES: The Tuesday, May 15, 2018 meeting will be held via conference call.

FOR FURTHER INFORMATION CONTACT: Anne Reim, Office of Small Business Development Centers, U.S. Small Business Administration, 409 Third Street SW, Washington, DC 20416; anne.reim@sba.gov; 202-205-9565.

If anyone wishes to be a listening participant or would like to request accommodations, please contact Anne Reim at the information above.

SUPPLEMENTARY INFORMATION: Pursuant to section 10(a) of the Federal Advisory Committee Act (5 U.S.C. Appendix 2), the SBA announces the meetings of the National SBDC Advisory Board. This Board provides advice and counsel to the SBA Administrator and Associate Administrator for Small Business Development Centers.

Purpose

The purpose of the meeting is to discuss the following issues pertaining to the SBDC Program:

• SBA Update

• Annual Meetings

• Board Assignments

• Member Roundtable

John Woodard,
White House Liaison.

[FR Doc. 2018-10072 Filed 5-10-18; 8:45 am]

BILLING CODE P